DEPARTMENT OF AGRICULTURE

Rural Utilities Service

Rural Housing Service

Rural Business-Cooperative Service

7 CFR Part 5001

[Docket No. RUS-19-Agency-0030]

RIN 0572-AC56

OneRD Guaranteed Loan Regulation

AGENCY: Rural Business-Cooperative Service, Rural Housing Service, Rural Utilities Service, USDA.

ACTION: Final rule, correction and correcting amendments.

SUMMARY: On September 30, 2024, Rural Development's Rural Business-Cooperative Service, Rural Housing Service, and Rural Utilities Service, agencies of the United States Department of Agriculture (USDA), published a final rule with comment for the OneRD Guarantee Loan Program (OneRD). The final rule made necessary revisions to the policy and procedures that strengthened the oversight and management of the growing Community Facilities, Water and Waste Disposal, Business and Industry, and Rural Energy for America guarantee portfolios. The final rule had a misspelled subject heading in the preamble. The final rule also contained information in an instruction that was not ultimately in the final rule, an incomplete definition of affiliate, and a misstatement regarding protective advances. This document corrects the final regulation.

DATES: This rule is effective December 9, 2024.

ADDRESSES: Address all comments concerning this correction to Susan Woolard, Regulations Management Division, Rural Development Innovation Center, U.S. Department of Agriculture, 1400 Independence Ave. SW, Stop 1522, Washington, DC 20250; telephone (202) 720-9631; email susan.woolard@usda.gov.

FOR FURTHER INFORMATION CONTACT: Susan Woolard, Regulations Management Division, Rural Development Innovation Center, U.S. Department of Agriculture, 1400 Independence Ave. SW, Stop 1522, Washington, DC 20250; telephone (202) 720-9631; email susan.woolard@usda.gov.

SUPPLEMENTARY INFORMATION: Rural Development's Rural Business-Cooperative Service, Rural Housing Service, and Rural Utilities Service are issuing corrections to the final rule that published September 30, 2024, at 89 FR 79698.

List of Subjects in 7 CFR Part 5001

Business and industry, Community facility, Energy efficiency improvement, Loan programs, Renewable energy, Rural areas, Rural development, Water and waste disposal.

In FR Doc. 2024-21920 published September 30, 2024, beginning on page 79698, make the following corrections:

1. On page 79699, in the third column, item 11, the title is corrected to read “11. § 5001.116 Ineligible CF Projects”.

2. On page 79702, in the third column, item 39a, is corrected to read:

a. § 5001.516(c) is updated to inform lenders that payment of real estate taxes is considered a protective advance but does not require advanced Agency approval.

3. On page 79704, in the third column, Instruction 4 for § 5001.3, is corrected by removing the words “commercially available”.

4. On page 79711, in the second column, Instruction 14 is corrected to read:

14. Amend § 5001.106 by revising the first sentence of the introductory text, paragraphs (d)(2), (e)(2) and (e)(3) introductory text to read as follows:

For the reasons discussed in the preamble, 7 CFR 5001 is corrected by making the following correcting amendments:

PART 5001—GUARANTEED LOANS.

1. The authority citation for part 5001 continues to read as follows:

Authority: 5 U.S.C. 301; 7 U.S.C. 1926(a); 7 U.S.C. 1932(a); and 7 U.S.C. 8107.

2. Amend § 5001.3 by revising the definition of “affiliate” to read as follows:

§ 5001.3 Definitions.

* * * * *

Affiliate means a person that is connected with or controlled by another organization. Factors such as ownership, management, current and previous relationships with or ties to another person, and contractual relationships, may be considered in determining whether affiliation exists. Affiliation is determined using the principles outlined in 13 CFR 121.301(f).

* * * * *

3. Amend § 5001.516 by revising paragraph (c) to read as follows:

§ 5001.516 Protective advances.

* * * * *

(c) A lender must obtain written Agency approval for any protective advance that will cumulatively amount to more than $200,000, or 10 percent of the aggregate outstanding balance of principal and interest, whichever is less, to the same borrower. Payment of real estate taxes by the lender is considered a protective advance, subject to the requirements of this section, and does not require Agency advance approval.

Basil I. Gooden,
Deputy Under Secretary, Rural Development.

[FR Doc. 2024-28031 Filed 12-6-24; 8:45 am]

BILLING CODE 3410-15-P